DEPARTMENT OF THE TREASURY

17 CFR Part 420

RIN 1515-AA88

Government Securities Act Regulations: Large Position Rules

Correction

In rule document 02-31837 beginning on page 77411 in the issue of Wednesday, December 18, 2002 make the following corrections:ÿ7Eÿ7E

Appendix B to Part 420 [Corrected]

1. On page 77415, in Appendix B, in the second column, in the first line, remove the “$”.

2. On the same page, in the same appendix, in the same column, in the second line, remove the “$”.

3. On the same page, in the same appendix, in the same column, in the 12th line, add a “+” before the “$”.

4. On the same page, in the same appendix, in the same column, in the 13th line, and a “+” before the “$”.

[FR Doc. C2-31837 Filed 1-2-03; 8:45 am]

BILLING CODE 1505-01-D